DEPARTMENT OF TRANSPORTATION

National Highway Traffic Safety Administration

[Docket No. NHTSA-2015-0052; Notice 1]

Goodyear Tire & Rubber Company, Receipt of Petition for Decision of Inconsequential Noncompliance

AGENCY: National Highway Traffic Safety Administration (NHTSA), Department of Transportation (DOT).

ACTION: Receipt of petition.

SUMMARY: Goodyear Tire & Rubber Company (Goodyear), has determined that certain Goodyear G316 LHT commercial truck trailer replacement tires do not fully comply with paragraph S6.5(f) of Federal Motor Vehicle Safety Standard (FMVSS) No. 119, New Pneumatic Radial Tires for motor vehicles with a GVWR of more than 4,536 Kilograms (10,000 pounds) and Motorcycles. Goodyear has filed an appropriate report dated April 27, 2015, pursuant to 49 CFR part 573, Defect and Noncompliance Responsibility and Reports.

DATES: The closing date for comments on the petition is July 13, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. Goodyear's Petition: Pursuant to 49 U.S.C. 30118(d) and 30120(h) (see implementing rule at 49 CFR part 556), Goodyear submitted a petition for an exemption from the notification and remedy requirements of 49 U.S.C. Chapter 301 on the basis that this noncompliance is inconsequential to motor vehicle safety.

This notice of receipt of Goodyear's petition is published under 49 U.S.C. 30118 and 30120 and does not represent any agency decision or other exercise of judgment concerning the merits of the petition.

II. Tires Involved: Affected are approximately 79 Goodyear G316 LHT size 295/75R22.5 commercial truck trailer replacement tires manufactured between March 22, 2015 and April 9, 2015.

III. Noncompliance: Goodyear explains that because the sidewall markings on the reference side of the subject tires incorrectly identify the number of plies as “4 Plies Steel Cord” instead of the actual number “5 Plies Steel Cord,” the tires do not meet the requirements of paragraph S6.5(f) of FMVSS No. 119.

IV. Rule Text: Paragraph S6.5 of FMVSS No. 119 requires in pertinent part:

S6.5 Tire Markings. Except as specified in paragraphs, each tire shall be marked on each sidewall with the information specified in paragraphs (a) through (j) of this section . . .

(f) The actual number of plies and the composition of the ply cord material in the sidewall and, if different, in the tread area;

V. Summary of Goodyear's Analyses: Goodyear stated its belief that the subject noncompliance is inconsequential to motor vehicle safety for the following reasons:

(A) Goodyear stated that the subject tires were manufactured as designed and meet or exceed all applicable FMVSS performance standards.

(B) Goodyear also stated that all of the sidewall markings related to tire service (load capacity, corresponding inflation pressure, etc.) are correct.

(C) Goodyear believes that the mislabeling of the subject tires is not a safety concern and also has no impact on the retreading, repairing, and recycling industries.

(D) Goodyear also pointed out that NHTSA has previously granted petitions for non-compliances in sidewall marking that it believes are similar to its petition.

Goodyear additionally informed NHTSA that the molds at the manufacturing plant have been corrected so that no additional tires will be manufactured or sold with the noncompliance.

In summation, Goodyear believes that the described noncompliance of the subject tires is inconsequential to motor vehicle safety, and that its petition, to exempt Goodyear from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Goodyear no longer controlled at the time it determined that the noncompliance existed. However, any decision on this petition does not relieve equipment distributors and dealers of the prohibitions on the sale, offer for sale, or introduction or delivery for introduction into interstate commerce of the noncompliant tires under their control after Goodyear notified them that the subject noncompliance existed.

Authority: 49 U.S.C. 30118, 30120: Delegations of authority at 49 CFR 1.95 and 501.8.

Jeffrey Giuseppe,
Director, Office of Vehicle Safety Compliance.

[FR Doc. 2015-14257 Filed 6-10-15; 8:45 am]

BILLING CODE 4910-59-P